DEPARTMENT OF COMMERCE

National Oceanic and Atmospheric Administration

50 CFR Parts 223 and 224

RIN 0648-XJ00 and RIN 0648-XN50

Endangered and Threatened Wildlife and Plants; Proposed Listing Determinations for Five Distinct Population Segments of Atlantic Sturgeon; Extension of Public Comment Period

AGENCY: National Marine Fisheries Service (NMFS), National Oceanic and Atmospheric Administration (NOAA), Commerce.

ACTION: Proposed rule; extension of public comment period.

SUMMARY: NMFS hereby extends the comment period on the proposed listing of five distinct population segments (DPSs) of Atlantic sturgeon as endangered or threatened until February 3, 2011. The five DPSs were proposed for listing in two separate proposed listing determinations, published on October 6, 2010.

DATES: Comments and information regarding the proposed rules published October 6, 2010 (75 FR 61872; 75 FR 61904) must be received by February 3, 2011.

ADDRESSES: You may submit comments, identified by RIN 0648-XJ00 or RIN 0648-XN50, by any of the following methods:

• Federal eRulemaking Portal: http//www.regulations.gov. Follow the instructions for submitting comments.

• Fax: To the attention of Lynn Lankshear at (978) 281-9394 for RIN 0648-XJ00, or to Kelly Shotts at (727) 824-5309 for RIN 0648-XN50.

• Mail or hand-delivery: For RIN 0648-XJ00, submit written comments to the Assistant Regional Administrator for Protected Resources, NMFS, Northeast Regional Office, 55 Great Republic Drive, Gloucester, MA 01930. For RIN 0648-XN50, submit written comments to the Assistant Regional Administrator for Protected Resources, NMFS, Southeast Regional Office, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

We will accept anonymous comments (enter “n/a” in the required fields if you wish to remain anonymous). Attachments to electronic comments will be accepted in Microsoft Word, Excel, WordPerfect, or Adobe PDF file formats only.

The proposed rule, status review report, and other reference materials regarding this determination are available electronically at the NMFS Web sites http://www.nero.noaa.gov/prot_res/CandidateSpeciesProgram/cs.htm, and http://www.sero.nmfs.noaa.gov/pr/sturgeon.htm.

FOR FURTHER INFORMATION CONTACT: Lynn Lankshear, NMFS, Northeast Regional Office (978) 282-8473; Kimberly Damon-Randall, NMFS, Northeast Regional Office (978) 282-8485; Kelly Shotts, NMFS, Southeast Regional Office (727) 824-5312; or Lisa Manning, NMFS, Office of Protected Resources (301) 713-1401.

SUPPLEMENTARY INFORMATION:

On October 6, 2010, we, NMFS, published two proposed rules (75 FR 61872; 75 FR 61904) to list the Gulf of Maine DPS of Atlantic sturgeon as threatened and the New York Bight, Chesapeake Bay, Carolina, and South Atlantic DPSs as endangered under the Endangered Species Act of 1973 (ESA), as amended.

NMFS subsequently received requests to extend the public comment period for an additional 90 days. NMFS has determined that an extension of 30 days, until February 3, 2011, making the full comment period 120 days, will allow adequate time for the public to thoroughly review and comment on the proposed rules while still providing the agency with sufficient time to meet our statutory deadlines.

Authority: 16 U.S.C. 1531 et seq.

Dated: December 23, 2010.
Eric C. Schwaab,
Assistant Administrator for Fisheries, National Marine Fisheries Service.

[FR Doc. 2010-32967 Filed 12-29-10; 8:45 am]

BILLING CODE 3510-22-P